DEPARTMENT OF ENERGY

Federal Energy Regulatory Commission

[Docket No. PF06-11-000]

Quoddy Bay, LLC; Notice of Intent To Prepare an Environmental Impact Statement for the Proposed Quoddy Bay LNG Project, Request for Comments on Environmental Issues and Notice of Public Scoping Meetings

March 14, 2006.

The Federal Energy Regulatory Commission (FERC or Commission) and the U.S. Department of Homeland Security, U.S. Coast Guard (Coast Guard) are in the process of evaluating the Quoddy Bay L.L.C. (Quoddy Bay) Liquefied Natural Gas (LNG) Import and Regasification Terminal project (the Project) which involves the construction and operation of facilities by Quoddy Bay on the western shore of Passamaquoddy Bay in Washington County, Maine. The Project would consist of an onshore LNG import terminal located in Pleasant Point, ME with an approximate eight-mile-long pipeline connecting to a storage facility located in Perry, Maine., and 35-mile-long natural gas sendout pipeline interconnecting with the Maritimes and Northeast (M&NE) Pipeline system.

As part of this evaluation, FERC staff will prepare an environmental impact statement (EIS) that will address the environmental impacts of the project and the Coast Guard will assess the maritime safety and security of the Project. As explained further in the Public Participation Section of this notice, the FERC and Coast Guard will hold joint public scoping meetings to allow the public and interested agencies the opportunity to provide input to these assessments.

This notice explains the scoping process that will help us ¹ determine which issues/impacts need to be evaluated in the EIS. This EIS will be used by the Commission in its decision-making process to determine whether the Project is in the public convenience and necessity. Please note that the scoping period for the Project will close on April 28, 2006.

¹ “We,”, “us”, and “our” refer to the environmental staff of the Office of Energy Projects.

The FERC will be the lead Federal agency in the preparation of an EIS that will satisfy the requirements of the National Environmental Policy Act (NEPA). The Coast Guard; the U.S. Army Corps of Engineers; and Department of Interior, Bureau of Indian Affairs will serve as cooperating agencies during preparation of the EIS. In addition, we have invited the U.S. Department of Commerce, National Oceanic and Atmospheric Administration, National Marine Fisheries Service; the U.S. Environmental Protection Agency; the U.S. Department of the Interior, Fish and Wildlife Service; the Advisory Council on Historic Preservation, the Natural Resources Conservation Service; the Maine Department of Environmental Protection; the Maine Department of Marine Resources; and the Maine Division of Inland Fisheries and Wildlife.

Comments may be submitted in written form or verbally. In lieu of or in addition to sending written comments, you are invited to attend the public scoping meetings that have been scheduled in the Project area. Further instructions on how to submit written comments and additional details of the public scoping meetings are provided in the public participation section of this NOI.

The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in Title 33 CFR 105, and recommendation for siting as it pertains to the management of vessel traffic in and around the LNG facility.

Upon receipt of a letter of intent from an owner or operator intending to build a new LNG facility, the Coast Guard Captain of the Port (COTP) conducts an analysis that results in a letter of recommendation issued to the owner or operator and to the state and local governments having jurisdiction, addressing the suitability of the waterway to accommodate LNG vessels. Specifically the letter of recommendation addresses the suitability of the waterway based on:

• The physical location and layout of the facility and its berthing and mooring arrangements.

• The LNG vessels' characteristics and the frequency of LNG shipments to the facility.

• Commercial, industrial, environmentally sensitive, and residential area in and adjacent to the waterway used by the LNG vessels en route to the facility.

• Density and character of the marine traffic on the waterway.

• Bridges or other manmade obstructions in the waterway.

• Depth of water.

• Tidal range.

• Natural hazards, including rocks and sandbars.

• Underwater pipelines and cables.

• Distance of berthed LNG vessels from the channel, and the width of the channel.

In addition, the Coast Guard will review and approve the facility's operations manual and emergency response plan (33 CFR 127.019), as well as the facility's security plan (33 CFR 105.410). The Coast Guard will also provide input to other Federal, state, and local government agencies reviewing the project.

In order to complete a thorough analysis and fulfill the regulatory mandates cited above, the COTP Sector Northern New England will be conducting a formal risk assessment evaluating the various safety and security aspects associated with the Quoddy Bay's LNG proposed project. This risk assessment will be accomplished through a series of workshops focusing on the areas of waterways safety, port security, and consequence management, with involvement from a broad cross-section of government and port stakeholders with expertise in each of the respective areas. The workshops will be by invitation only. However, comments received during the public comment period will be considered as input in the risk assessment process.

This notice is being sent to affected landowners within 0.5 mile of the proposed LNG Terminal; landowners within 200 feet of the pipeline route under consideration; Federal, state, and local government agencies; elected officials; environmental and public interest groups; Native American tribes; and local libraries and newspapers; and other interested parties.

Some affected landowners may be contacted by a project representative about the acquisition of an easement to construct, operate, and maintain the proposed facilities. If so, Quoddy Bay and the affected landowners should seek to negotiate a mutually acceptable agreement. In the event that the Project is certificated by the Commission, that approval conveys the right of eminent domain for securing easements for the facilities. Therefore, if easement negotiations fail to produce an agreement, Quoddy Bay could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

Quoddy Bay proposes to site, construct, and operate an LNG terminal and storage facility, and associated natural gas sendout pipeline with a capacity of 2.0 billion cubic feet per day. More specifically, Quoddy Bay's facilities would consist of:

• An LNG import and marine LNG terminal, including a double, staggered berth, 1,700-foot-long pier, capable of handling about 90 LNG tankers per year, ranging in size from 135,000 to 200,000 cubic meters (m³) per ship;

• An onshore storage and regasification facility which includes three full-containment insulated storage tanks with a capacity of 160,000 m³ each.

• LNG being unloaded from either of two berths. Each berth has four identical unloading arms, three in liquid service and one in vapor service. Each arm is provided with an emergency release system. Tankers can be unloaded at 4,000 to 12,000 cubic meters per hour;

• The platform on the unloading pier will be equipped with submerged combustion vaporizers which can vaporize the LNG on site and send gas directly to the sendout line bypassing the shore side storage facility;

• The electrical power distribution, including power substations, transformers, switchgear, multiple voltage distribution, emergency and UPS power systems;

• Ancillary terminal facilities being located on the pier, including enclosed control rooms, and platform firefighting capability;

• A computer-based distributed control system, measurement controls and natural gas metering facilities;

• LNG being pumped via a cryogenic transfer line approximately 6,000 ft., crossing under a state highway, across a small inlet bay to the storage facility.

• A comprehensive hazard monitoring system incorporating flammable gas detectors, high and low temperature detectors, smoke detectors, and local emergency shut-down controls.

• The proposed sendout pipeline would consist of a 35.1 miles of 36-inch diameter pipeline that would extend from the Import Facility through the Storage Facility and interconnect with the M&NE Pipeline in Princeton, Maine.

A map depicting the general location of the Project facilities and pipeline is shown in Appendix 1.²

² The appendices referenced in this notice are not being printed in the Federal Register. Copies are available from the Commission's Public Reference and Files Maintenance Branch, at (202) 502-8371. For instructions on connecting to eLibrary refer to the last page of this Notice.

Quoddy Bay is requesting approval such that the pier facilities are completed and placed into service in 2009 with the storage facilities being placed into service in 2010.

Land Requirements for Construction

Construction of the project would disturb about 993 acres of land. Following construction, about 337 to 340 acres of the total would be retained for the operation of the LNG Terminal and Sendout Pipeline.

As proposed, the Import Facility would be constructed on submerged lands that extend from mean low water at Split Rock eastward towards the United States shore between Pleasant Point, Maine and Deer Island in New Brunswick Canada. Construction of this facility would require approximately 431 acres of land, of this amount, 30 acres consists of submerged lands that would be permanently impacted by the operation of the facility.

The Support Facility would be located on Split Rock within the Passamaquoddy Indian Reservation in Pleasant Point, Maine. About 4 acres of land would be temporarily impacted by the construction of the Support Facility, of which about 2.5 acres of land would be permanently impacted by the operation of the proposed facility.

Construction of the LNG Transfer System would temporarily impact about 8 acres of land and would including a segment of submerged land in Half Moon Cove. About 6 acres would be required for operation of the LNG Transfer System.

The Storage Facility would be located in the town of Perry, Maine and affect about 100 acres of land. About 88 acres would be affected by operation.

The 35.1-mile-long, 36-inch-diameter sendout pipeline in Washington County, Maine would temporarily affect about 430 to 450 acres of land during construction. About 210 to 213 acres would be required for operations. Quoddy Bay would use a maximum 100-wide right-of-way for construction, of this amount 50 feet would consist of permanent right-of-way and 50 feet would consist of temporary workspace. The construction right-of-way near wetlands and water bodies would be limited to 75 feet and in residential areas to 50 feet.

The EIS Process

The Project is currently in the preliminary stages of design, and at this time a formal application has not been filed with the Commission. For this proposal, the Commission is initiating the National Environmental Policy Act (NEPA) review prior to receiving the application. This allows interested stakeholders to become involved early in project planning and to identify and resolve issues before an application is filed with the FERC. A docket number (PF06-11-000) has been established to locate in the public record information filed by Quoddy Bay and related documents issued by the Commission.³ Once a formal application is filed with the FERC, a new docket number will be established.

³

To view information in the docket, follow the instructions for using the eLibrary link at the end of this notice.

NEPA requires the Commission to take into account the environmental impacts that could result from an action whenever it considers the issuance of a Certificate of Public Convenience and Necessity under Section 7 of the Natural Gas Act. NEPA also requires us to identify and address concerns the public would have about proposals. This process is referred to as “scoping.” The main goal of the scoping process is to focus the analysis in the EIS on important environmental issues and reasonable alternatives. By this Notice of Intent, the Commission staff requests agency and public comments on the scope of the issues to be addressed in the EIS. All comments received are considered during the preparation of the EIS.

In the EIS we will discuss impacts that could occur as a result of the construction, operation, maintenance, and abandonment of the proposed project under these general headings:

• Geology and Soils,

• Water Resources,

• Fish, Wildlife, and Vegetation,

• Endangered and Threatened Species,

• Cultural Resources,

• Land Use, Recreation and Special Interest Areas, and Visual Resources,

• Socioeconomics,

• Marine Transportation,

• Air Quality and Noise,

• Reliability and Safety, and

• Alternatives.

Our independent analysis of the issues will be included in the draft EIS. The draft EIS will be published and mailed to Federal, state, and local agencies, Native American tribes, public interest groups, interested individuals, affected landowners, newspapers, libraries, and the Commission's official service list for this proceeding. A comment period will be allotted for review of the draft EIS. We will consider all timely comments on the draft EIS and revise the document, as necessary, before issuing a final EIS.

We have already started to meet with Quoddy Bay, agencies, and other interested stakeholders to discuss the Project and identify issues/impacts and concerns. Between February 13 and 17, 2006, representatives of FERC staff participated in public open houses sponsored by Quoddy Bay in the Project area to explain the NEPA environmental review process to interested stakeholders and take comments about the Project. In addition, the Coast Guard, which would be responsible for reviewing the safety and security aspects of the planned project and regulating safety and security if the project is approved, has initiated its review of the project as well.

With this notice, we are asking other Federal, state, and local agencies with jurisdiction and/or special expertise with respect to environmental issues in the project area to formally cooperate with us in the preparation of the EIS. These agencies may choose to participate once they have evaluated the proposal relative to their responsibilities. Agencies that would like to request cooperating status should follow the instructions for filing comments described later in this notice. We encourage government representatives to notify their constituents of this planned project and encourage them to comment on their areas of concern.

To ensure your comments are considered, please carefully follow the instructions in the public participation section below.

Currently Identified Environmental Issues

We have identified several issues that we think deserve attention based on a preliminary review of the proposed facilities and the information provided by Quoddy Bay. This preliminary list of issues may be changed based on your comments and our analysis.

• Impact of LNG ship traffic on other water-body users, including recreational boaters, tour-boats, and commercial fishing vessels.

• Potential impacts on regional aquaculture and commercial fishing activities.

• Safety and security issues relating to LNG ship traffic, including transits through Head Harbor Passage.

• Potential impacts on the residents of neighboring communities, including safety issues at the import and storage facility, noise, air quality, and visual resources.

• Project impacts on threatened and endangered species and nearby National Wildlife Refuges.

• Project impacts on cultural resources.

We will make recommendations on how to lessen or avoid impacts on the various resource areas and evaluate possible alternatives to the proposed Project or portions of the Project.

Public Participation

You are encouraged to become involved in this process and provide your specific comments or concerns about Quoddy Bay's proposal. Your comments should focus on the potential environmental effects, reasonable alternatives, and measures to avoid or lessen environmental impacts. The more specific your comments, the more useful they will be. Please carefully follow these instructions to ensure that your comments are received in time and properly recorded:

• Send an original and two copies of your letter to: Magalie R. Salas, Secretary, Federal Energy Regulatory Commission, 888 First St. NE.; Room 1A, Washington, DC 20426.

• Label one copy of the comments for the attention of Gas Branch 1.

• Reference Docket No. PF06-11-000 on the original and both copies.

• Mail your comments so that they will be received in Washington, DC on or before April 28, 2006 (Applicable copies will be provided to the Coast Guard).

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

In addition to or in lieu of sending written comments, we invite you to attend the public scoping meetings we will conduct in the Project area.⁴ The locations for these meetings are listed below. All meetings are scheduled to begin at 7 p.m.:

⁴

The Quoddy Bay scoping meetings were originally scheduled for March 28 and 29, 2006. However, due to scheduling conflicts for the FERC staff, the meetings were moved as noted above.

Wednesday, April 5, 2006, 7 p.m.

Pleasant Point Recreational Dept./Sipayik Boy's and Girl's Club, Passamaquoddy Drive, Perry, ME 04667, 207-853-6161.

Thursday, April 6, 2006, 7 p.m.

Perry School, 1587 U.S. Route 1, Perry, ME 04667, 207-853-2522.

The scoping meetings listed above will be combined with the Coast Guard's public meeting regarding the safety and security of the project. At the meetings, the Coast Guard will discuss (1) the waterway safety assessment that it will conduct to determine whether or not the waterway can safely accommodate the LNG carrier traffic and operation of the planned LNG marine terminal, and (2) the security assessment it will conduct in accordance with the requirements of the Maritime Transportation Security Act. The Coast Guard will not be issuing a separate meeting notice for the maritime safety and security aspects of the project.

The joint public scoping meetings are designed to provide state and local agencies, interested groups, affected landowners, and the general public with another opportunity to offer your comments on the Project. Interested groups and individuals are encouraged to attend the meetings and to present comments on the environmental issues they believe should be addressed in the EIS and LNG vessel transit safety concerns for consideration by the Coast Guard. A transcript of each meeting will be made so that your comments will be accurately recorded.

All public meetings will be posted on the Commission's calendar located at http://www.ferc.gov/EventCalendar/EventsList.aspx along with other related information.

When Quoddy Bay submits its application for authorization to construct and operate the project, the Commission will publish a Notice of Application in the Federal Register and will establish a deadline for interested persons to intervene in the proceeding. Because the Commission's Pre-Filing Process occurs before an application to begin a proceeding is officially filed, petitions to intervene during this process are premature and will not be accepted by the Commission.

Environmental Mailing List

If you received this notice, you are on the environmental mailing list for this Project and will continue to receive Project updates including the draft and final EISs. If you want your contact information corrected or you do not want to remain on our mailing list, please return the Correct or Remove From Mailing List Form included as Appendix 3.

To reduce printing and mailing costs, the draft and final EISs will be issued in both CD-ROM and hard copy formats. The FERC strongly encourages the use of the CD-ROM format in its publication of large documents. If you wish to receive a paper copy of the draft EIS instead of a CD-ROM, you must indicate that choice on the return postcard (Appendix 3).

Additional Information

Additional information about the Project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, Quoddy Bay L.L.C. LNG has established an Internet Web site for this project at http://www.quoddylng.com. The website includes a project overview, status, and answers to frequently asked questions. You can also request additional information by calling Quoddy Bay LNG at 207-853-6631, or by e-mail at ABarstow@quoddylng.com.

Magalie R. Salas,
Secretary.

[FR Doc. E6-4041 Filed 3-20-06; 8:45 am]

BILLING CODE 6717-01-P